DEPARTMENT OF ENERGY

Orders Granting Authority To Import and Export Natural Gas, To Import and Export Liquefied Natural Gas, To Vacate Prior Authorization and Errata During July 2015

| FE Docket Nos.
WORLD FUEL SERVICES, INC | 15-84-NG
ELEMENT MARKETS RENEWABLE ENERGY, LLC | 15-88-NG
ALTAGAS MARKETING (U.S.) INC. | 15-92-NG
CONOCOPHILLIPS COMPANY | 15-94-NG
CRYOPEAK LNG SOLUTIONS CORPORATION | 14-126-LNG
BP WEST COAST PRODUCTS LLC | 15-98-NG
SEMPRA LNG INTERNATIONAL, LLC | 15-99-NG
DOMINION COVE POINT LNG, LP | 11-128-LNG
CAMERON LNG, LLC | 15-36-LNG
CARIB ENERGY (USA) LLC | 11-141-LNG
CHENIERE MARKETING, LLC AND CORPUS CHRISTI LIQUEFACTION, LLC | 12-97-LNG
BEAR HEAD LNG CORPORATION AND BEAR HEAD LNG (USA), LLC | 15-33-LNG
G2 LNG LLC | 15-44-LNG
BEAR HEAD LNG CORPORATION AND BEAR HEAD LNG (USA), LLC | 15-33-LNG
UNITED ENERGY TRADING, LLC | 15-100-NG
TIDAL ENERGY MARKETING (U.S.) L.L.C. | 15-101-NG
CONOCOPHILLIPS COMPANY | 15-102-LNG
CAMBRIDGE ENERGY | 15-104-LNG
GIGO TRANSPORT, INC. | 15-105-NG
SAN DIEGO GAS & ELECTRIC COMPANY | 15-106-NG
WORLD FUEL SERVICES MEXICO, S. DE. R.L. DE C.V. | 15-107-NG
SPARK ENERGY CANADA CORP. | 15-27-NG
FLORIDIAN NATURAL GAS STORAGE COMPANY, LLC | 15-38-LNG

AGENCY: Office of Fossil Energy, Department of Energy.

ACTION: Notice of orders.

SUMMARY: The Office of Fossil Energy (FE) of the Department of Energy gives notice that during July 2015, it issued orders granting authority to import and export natural gas, to import and export liquefied natural gas, to vacate prior authority, and errata. These orders are summarized in the attached appendix and may be found on the FE Web site at http://energy.gov/fe/downloads/listing-doefe-authorizationsorders-issued-2015. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 16, 2015.
John A. Anderson,
Director, Office of Oil and Gas Global Security and Supply, Office of Oil and Natural Gas.

Appendix

DOE/FE Orders Granting Import/Export Authorizations
3673 | 07/01/15 | 15-84-NG | World Fuel Services, Inc | Order granting blanket authority to import/export natural gas from/to Canada/Mexico.
3674 | 07/01/15 | 15-88-NG | Elements Markets Renewable Energy, LLC | Order granting blanket authority to import natural gas from Canada/Mexico.
3675 | 07/01/15 | 15-92-NG | AltaGas Marketing (U.S.) Inc | Order granting blanket authority to import/export natural gas from/to Canada.
3676 | 07/01/15 | 15-94-NG | ConocoPhillips Company | Order granting blanket authority to import/export natural gas from/to Canada/Mexico.
3677 | 07/01/15 | 14-126-LNG | Cryopeak LNG Solutions Corporation | Order granting blanket authority to import LNG from Canada/Mexico by truck, and to export LNG to Canada/Mexico by vessel.
3678 | 07/09/15 | 15-98-NG | BP West Coast Products LLC | Order granting blanket authority to import/export natural gas from/to Canada.
3679 | 07/09/15 | 15-99-NG | Sempra LNG International, LLC | Order granting blanket authority to import/export natural gas from/to Mexico.
Unnumbered | 07/09/15 | 11-128-LNG | Dominion Cove Point LNG, LP | Order granting Rehearing for Further Consideration.
3680 | 07/10/15 | 15-36-LNG | Cameron LNG, LLC | Order granting long-term multi-contract authority to export LNG by vessel from the Cameron LNG Terminal in Cameron and Calcasieu Parishes, Louisiana, to Non-Free Trade Agreement Nations.
Errata | 07/10/15 | 11-141-LNG | Carib Energy (USA) LLC | Errata notice to DOE/FE Order No. 3487 issued 9/10/14.
Unnumbered Order | 07/10/15 | 12-97-LNG | Cheniere Marketing, LLC and Corpus Christi Liquefaction, LLC | Order granting Rehearing for Further Consideration.
3681 | 07/17/15 | 15-33-LNG | Bear Head LNG Corporation and Bear Head (USA), LLC | Order granting long-term multi-contract authority to export natural gas to Canada and to other Free Trade Agreement Nations.
3682 | 07/17/15 | 15-44-LNG | G2 LNG LLC | Order granting long-term multi-contract authority to export LNG by vessel from the proposed G2 LNG Terminal in Cameron Parish, Louisiana to Free Trade Agreement Nations.
Errata | 07/21/15 | 15-33-LNG | Bear Head LNG Corporation and Bear Head (USA), LLC | Errata notice to DOE/FE Order No. 3681 issued 7/17/15.
3683 | 07/23/15 | 15-100-NG | United Energy Trading, LLC | Order granting blanket authority to import/export natural gas from/to Canada and vacating prior authority.
3684 | 07/23/15 | 15-101-NG | Tidal Energy Marketing (U.S.), L.L.C | Order granting blanket authority to import/export natural gas from/to Canada.
3685 | 07/23/15 | 15-102-LNG | ConocoPhillips Company | Order granting blanket authority to import LNG from various international sources by vessel and to export LNG to Canada/Mexico by vessel.
3686 | 07/23/15 | 15-104-LNG | Cambridge Energy | Order granting blanket authority to import LNG from various international sources by vessel and to export LNG to Canada/Mexico by vessel.
3687 | 07/23/15 | 15-105-NG | Gigo Transport, Inc | Order granting blanket authority to import/export natural gas from/to Mexico.
3688 | 07/23/15 | 15-106-NG | San Diego Gas & Electric Company | Order granting blanket authority to import/export natural gas from/to Mexico.
3689 | 07/23/15 | 15-107-NG | World Fuel Services Mexico, S. de R.L. de C.V | Order granting blanket authority to import/export natural gas from/to Mexico.
3611-A | 07/23/15 | 15-27-NG | Sparks Energy Canada Corp | Order vacating authority to import/export natural gas from/to Canada.
3691 | 07/31/15 | 15-38-LNG | Floridian Natural Gas Storage Company, LLC | Order granting long-term, multi-contract authority to export LNG in ISO containers loaded at the proposed Floridian Facility in Marin County, Florida, and exported by vessel to Free Trade Agreement nations.

[FR Doc. 2015-24084 Filed 9-21-15; 8:45 am]

BILLING CODE 6450-01-P